DEPARTMENT OF THE INTERIOR

National Park Service

60-Day Notice of Intention To Request Clearance of Collection of Information; Opportunity for Public Comment

AGENCY: National Park Service, The Department of the Interior.

ACTION: Notice and request for comments.

SUMMARY: Under the provisions of the Paperwork Reduction Act of 1995 (Pub. L. 104-13, 44 U.S.C., Chapter 3507) and 5 CFR part 1320, Reporting and Record Keeping Requirements, the National Park Service (NPS) invites public comments on the reinstatement, with change, of a previously approved collection for which approval has expired (OMB #1024-0226).

DATES: Public comments on this notice will be accepted on or before May 30, 2006 to be assured of consideration.

ADDRESSES: Send comments to: Cyndi Szymanski, Outdoor Recreation Planner, Rivers, Trails and Conservation Assistance Program, National Park Service, 1849 “C” Street, NW. (org code 2220), Washington, DC 20240. E-mail: Cynthia_szymanski@nps.gov. Phone: (202) 354-6912, Fax, (202) 371-5179.

FOR FURTHER INFORMATION CONTACT: Cyndi Szymanski, Outdoor Recreation Planner, Rivers, Trails and Conservation Assistance Program, National Park Service, 1849 “C” Street, NW. (org code 2220), Washington, DC 20240. E-mail: Cynthia_szymanski@nps.gov.

SUPPLEMENTARY INFORMATION: Title: National Park Service Partnership Assistance Programs' GPRA Information Collection.

OMB Number: 1024-0226.

Expiration Date: To be requested.

Type of Request: Reinstatement, with change, of a previously approved collection for which approval has expired.

Description of Need: The Government Performance and Results Act requires Federal agencies to prepare annual performance reports documenting the progress made toward achieving long-term goals. The National Park Service needs the information in the proposed collections to assess the annual progress being made toward meeting Long-term Goal IIIb2 of the National Park Service Strategic Plan. The information sought is not collected elsewhere by the Federal Government. The proposed information collections impose no data collection or record keeping burden on the potential respondents. Responding to the proposed collections is voluntary and is based on data that the respondents already collect and/or personal opinion. The National Park Service needs information to help evaluate and improve its partnership assistance programs.

Public comments are invited on this reinstatement. Specifically two information collections will be carried out pursuant to the Government Performance and Results Act and the NPS Strategic Plan. Both of the proposed information collections are surveys of customer satisfaction of certain NPS programs and types of assistance. NPS' Rivers, Trails and Conservation Assistance Program and Federal Lands to Parks Program will conduct surveys to assess client satisfaction with the services received and to identify needed program improvements. The NPS goal in conducting these surveys is to use the information to identify areas of strength and weakness in its recreation and conservation assistance programs, to provide an information base for improving those programs, and to provide a required performance measurement (Goal IIIb2 of the National Park Service Strategic Plan) under the Government Performance and Results Act.

Estimated number of:

| Responses | Burden hours
NPS Partnership Assistance Programs GPRA Information Collections | 150 | 25

Under provisions of the Paperwork Reduction Act of 1995 and 5 CFR part 1320, Reporting and Record Keeping Requirements, the National Park Service is soliciting comments on the need for the two information collections. The NPS also is asking for comments on the practical utility of the information being gathered; the accuracy of the burden hour estimate; ways to enhance the quality, utility, and clarity of the information to be collected; and ways to minimize the burden to respondents, including use of automated information collection techniques or other forms of information technology.

Description of Respondents: This is a census survey of all principal cooperating organizations and agencies which have received substantial assistance from the Rivers, Trails and Conservation Assistance Program or the Federal Lands to Parks Program during the prior Fiscal year (October 1 through September 30).

Estimated Average Number of Respondents: 255. See the chart below for a breakdown by each information collection.

Estimated Average Number of Responses: 150. See the chart below for a breakdown by each information collection.

Estimated Average Burden Hours per Response: 10 minutes. See the chart below for a breakdown by each information collection.

Frequency of Response: One time per technical assistance event.

Estimated Annual Reporting Burden: 25 hours. See the chart below for a breakdown by each information collection.

Estimated number of:

Information collection | Respondents | Responses | Avg. Time per response (min.) | Hours
Rivers, Trails and Conservation Assistance Program | 200 | 120 | 10 | 20
Federal Lands to Parks Program | 55 | 30 | 10 | 5
Subtotal | 255 | 150 |  | 25

Dated: March 14, 2006.
Leonard E. Stowe,
National Park Service Information and Collection Clearance Officer.

[FR Doc. 06-3018 Filed 3-28-06; 8:45 am]

BILLING CODE 4310-70-M